NATIONAL SCIENCE FOUNDATION

Notice of Intent To Seek Approval To Renew an Information Collection

AGENCY: National Science Foundation.

ACTION: Notice and Request for Comments.

SUMMARY: The National Science Foundation (NSF) is announcing plans to request clearance of this collection. In accordance with the requirement of Section 3506(2)(A) of the Paperwork reduction Act of 1955 (Pub. L. 104-13), we are providing opportunity for public comment on this action. After obtaining and considering public comment, NSF will prepare the submission requesting that OMB approve clearance of this collection with changes for no longer than three (3) years.

DATES: Written comments on this notice must be received by January 13, 2014 to be assured of consideration. Comments received after that date will be considered to the extent practicable.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques, or other forms of information technology.

For Additional Information or Comments: The document will be available on the NSF's Division of Polar Programs' home page site for 60 days after the signature date of this notice. Comments submitted in writing or in electronic form will be made available for public inspection. Because your comments will not be edited to remove any identifying or contact information, NSF cautions you against including any personally identifying information in reference to this information collection, NSF Form 1700. Contact Suzanne Plimpton, the NSF Reports Clearance Officer, phone (703) 292-7556, or via email to splimpto@nsf.gov. Individuals who use a telecommunications device for the deaf (TDD) may call the Federal Information Relay Service (FIRS) at 1-800-877-8339, which is accessible 24 hours a day, 7 days a week, 365 days a year (including federal holidays).

SUPPLEMENTARY INFORMATION:

Title of Collection: Medical Clearance Process for Deployment to Antarctica.

OMB Number: 3145-0177.

Expiration Date of Approval: April 30, 2014.

Type of Request: Intent to seek approval to renew with changes an information collection for three years.

Abstract

Proposed Project: Presidential Memorandum No. 6646 (February 5, 1982) (available from the National Science Foundation, Division of Polar Programs, Suite 755, 4201 Wilson Boulevard, Arlington, VA 22230) sets forth the National Science Foundation's overall management responsibilities for the entire United States national program in Antarctica. Section 107(a) of Public Law 98-373 [July 31, 1984; amended as Public Law 101-609—November 16, 1990] [available from the National Science Foundation, Division of Polar Programs, Suite 755, 4201 Wilson Boulevard, Arlington, VA 22230] designates the National Science Foundation as the lead agency responsible for implementing Arctic research policy, and the Director of the National Science Foundation shall ensure that the requirements of section 108 are fulfilled.

NSF Form 1700, Medical Clearance Process for Deployment to the Polar Regions (Note: This form replaces NSF Forms 1421, 1422, 1423, 1424, 1425, 1427, 1428, 1429 and the title removes “Antarctica” and inserts “the Polar Regions”) furnishes information to the NSF regarding the physical, dental, and mental status for all individuals (except uniformed service personnel) who anticipate deploying to Antarctica under the auspices of the United States Antarctic Program or to certain regions of the Arctic sponsored by the NSF/GEO/Division of Polar Programs. The information is used to determine whether an individual is physically and mentally suited to endure the extreme hardships imposed by the Arctic and Antarctic continents, while also performing specific duties as specified by their employers.

Respondents: All non-uniformed personnel planning to deploy to U.S. stations in the Antarctic or to specified regions of the Arctic that are sponsored by the National Science Foundation's Division of Polar Programs.

The number of annual respondents: 3,200 to the Antarctic and 100 to the Arctic.

Estimated Total Annual Burden on Respondents: 33,000 hours.

Frequency of Responses: This form is submitted upon an individual's first deployment to Antarctica (below 60° South) or to specified regions of the Arctic and annually thereafter for the duration of the individual's deployments.

Dated: November 8, 2013.
Suzanne H. Plimpton,
Reports Clearance Officer, National Science Foundation.

[FR Doc. 2013-27257 Filed 11-13-13; 8:45 am]

BILLING CODE 7555-01-P